DEPARTMENT OF HOMELAND SECURITY

Federal Emergency Management Agency

[Docket ID FEMA-2021-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Arkansas: Benton (FEMA Docket No.: B-2148) | City of Rogers (21-06-0048P). | The Honorable Greg Hines, Mayor, City of Rogers, 301 West Chestnut Street, Rogers, AR 72756. | Community Development Department, 301 West Chestnut Street, Rogers, AR 72756. | Oct. 4, 2021 | 050013
Colorado:
Arapahoe (FEMA Docket No.: B-2148) | City of Centennial (20-08-0871P). | The Honorable Stephanie Piko, Mayor, City of Centennial, 13133 East Arapahoe Road, Centennial, CO 80112. | Southeast Metro Stormwater Authority, 7437 South Fairplay Street, Centennial, CO 80112. | Oct. 8, 2021 | 080315
Broomfield (FEMA Docket No.: B-2148) | City and County of Broomfield (21-08-0022P). | The Honorable Patrick Quinn, Mayor, City and County of Broomfield, 1 DesCombes Drive, Broomfield, CO 80020. | Engineering Department, 1 DesCombes Drive, Broomfield, CO 80020. | Oct. 1, 2021 | 085073
Teller (FEMA Docket No.: B-2143) | City of Cripple Creek (20-08-0744P). | The Honorable Milford Ashworth, Mayor, City of Cripple Creek, P.O. Box 430, Cripple Creek, CO 80813. | City Hall, 337 East Bennett Avenue, Cripple Creek, CO 80813. | Sep. 23, 2021 | 080174
Teller (FEMA Docket No.: B-2143) | Unincorporated areas of Teller County (20-08-0744P). | The Honorable Bob Campbell, Chairman, Teller County Board of County Commissioners, P.O. Box 959, Cripple Creek, CO 80813. | Teller County Planning Department, 800 Research Drive, Woodland Park, CO 80863. | Sep. 23, 2021 | 080173
Florida:
Broward (FEMA Docket No.: B-2143) | City of Oakland Park (21-04-0055P). | The Honorable Jane F. Bolin, Mayor, City of Oakland Park, 3650 Northeast 12th Avenue, Oakland Park, FL 33334. | City Hall, 3650 Northeast 12th Avenue, Oakland Park, FL 33334. | Sep. 27, 2021 | 120050
Broward (FEMA Docket No.: B-2143) | City of Tamarac (21-04-0055P). | The Honorable Michelle J. Gomez, Mayor, City of Tamarac, 7525 Northwest 88th Avenue, Tamarac, FL 33321. | City Hall, 7525 Northwest 88th Avenue, Tamarac, FL 33321. | Sep. 27, 2021 | 120058
Charlotte (FEMA Docket No.: B-2143) | Unincorporated areas of Charlotte County (20-04-5508P). | The Honorable Bill Truex, Chairman, Charlotte County Board of Commissioners, 18500 Murdock Circle, Suite 536, Port Charlotte, FL 33948. | Charlotte County Community Development Department, 18500 Murdock Circle, Port Charlotte, FL 33948. | Oct. 6, 2021 | 120061
Polk (FEMA Docket No.: B-2143) | Unincorporated areas of Polk County (20-04-6127P). | Mr. Bill Beasley, Polk County Manager, 330 West Church Street, Bartow, FL 33831. | Polk County Floodplain Management Department, 330 West Church Street, Bartow, FL 33831. | Sep. 30, 2021 | 120261
Mississippi: Panola (FEMA Docket No.: B-2148) | Unincorporated areas of Panola County (21-04-2141P). | The Honorable Cole Flint, President, Panola County Board of Supervisors, 151 Public Square, Batesville, MS 38606. | Panola County Land Development Commission, 245 Eureka Street, Batesville, MS 38606. | Sep. 29, 2021 | 280125
Montana:
Gallatin (FEMA Docket No.: B-2153) | City of Bozeman (20-08-0733P). | Mr. Jeff Mihelich, City of Bozeman Manager, 121 North Rouse Avenue, Bozeman, MT 59715. | City Hall, 20 East Olive Street, Bozeman, MT 59715. | Oct. 6, 2021 | 300028
Gallatin (FEMA Docket No.: B-2153) | Unincorporated areas of Gallatin County (20-08-0733P). | The Honorable Scott MacFarlane, Chairman, Gallatin County Commission, 311 West Main Street, Room 306, Bozeman, MT 59715. | Gallatin County Department of Planning and Community Development, 311 West Main Street, Room 108, Bozeman, MT 59715. | Oct. 6, 2021 | 300027
North Dakota: Burleigh (FEMA Docket No.: B-2143) | City of Bismarck (21-08-0028P). | The Honorable Steven Bakken, Mayor, City of Bismarck, P.O. Box 5503, Bismarck, ND 58506. | Community Development Department, 221 North 5th Street, Bismarck, ND 58501. | Sep. 23, 2021 | 380149
Pennsylvania: Montgomery (FEMA Docket No.: B-2148) | Township of Hatfield (21-03-0243P). | Mr. Aaron Bibro, Township of Hatfield Manager, 1950 School Road, Hatfield, PA 19440. | Zoning Department, 1950 School Road, Hatfield, PA 19440. | Sep. 23, 2021 | 420699
Texas:
Bexar (FEMA Docket No.: B-2148) | Unincorporated areas of Bexar County (21-06-0275P). | The Honorable Nelson Wolff, Bexar County Judge, 101 West Nueva Street, 10th Floor, San Antonio, TX 78205. | Bexar County Public Works Department, 1948 Probandt Street, San Antonio, TX 78214. | Oct. 4, 2021 | 480035
Comal (FEMA Docket No.: B-2148) | City of Bulverde (21-06-0275P). | The Honorable Bill Krawietz, Mayor, City of Bulverde, 30360 Cougar Bend, Bulverde, TX 78163. | City Hall, 30360 Cougar Bend, Bulverde, TX 78163. | Oct. 4, 2021 | 481681
Comal (FEMA Docket No.: B-2148) | Unincorporated areas of Comal County (21-06-0275P). | The Honorable Sherman Krause, Comal County Judge, 100 Main Plaza, New Braunfels, TX 78130. | Comal County Engineering Department, 195 David Jonas Drive, New Braunfels, TX 78132. | Oct. 4, 2021 | 485463
Denton (FEMA Docket No.: B-2143) | Town of Northlake (20-06-3532P). | The Honorable David Rettig, Mayor, Town of Northlake, 1500 Commons Circle, Suite 300, Northlake, TX 76226. | Public Works Department, 1400 F.M. 407, Northlake, TX 76247. | Oct. 4, 2021 | 480782
El Paso (FEMA Docket No.: B-2153) | City of El Paso (21-06-0100P). | The Honorable Oscar Leeser, Mayor, City of El Paso, 300 North Campbell Street, El Paso, TX 79901. | Flood Mitigation and Land Development Department, 801 Texas Avenue, El Paso, TX 79901. | Oct. 8, 2021 | 480214
El Paso (FEMA Docket No.: B-2153) | City of Socorro (21-06-0100P). | The Honorable Ivy Avalos, Mayor, City of Socorro, 124 South Horizon Boulevard, Socorro, TX 79927. | Planning and Zoning Department, 860 North Rio Vista Road, Socorro, TX 79927. | Oct. 8, 2021 | 481658
Montgomery (FEMA Docket No.: B-2153) | Unincorporated areas of Montgomery County (20-06-1594P). | The Honorable Mark J. Keough, Montgomery County Judge, 501 North Thompson Street, Suite 401, Conroe, TX 77301. | Montgomery County Commissioners Office, 501 North Thompson Street, Suite 103, Conroe, TX 77301. | Oct. 8, 2021 | 480483
Tarrant (FEMA Docket No.: B-2159) | City of Fort Worth (21-06-0746P). | The Honorable Betsy Price, Mayor, City of Fort Worth, 200 Texas Street, Fort Worth, TX 76102. | Transportation and Public Works Department, Engineering Vault, 200 Texas Street, Fort Worth, TX 76102. | Sep. 27, 2021 | 480596
Travis (FEMA Docket No.: B-2159) | City of Pflugerville (21-06-0300P). | The Honorable Victor Gonzales, Mayor, City of Pflugerville, 100 East Main Street, Suite 300, Pflugerville, TX 78691. | Development Services Department, 201-B East Pecan Street, Pflugerville, TX 78691. | Oct. 4, 2021 | 481028
Travis (FEMA Docket No.: B-2143) | City of Pflugerville (21-06-0412P). | The Honorable Victor Gonzales, Mayor, City of Pflugerville, P.O. Box 589, Pflugerville, TX 78691. | Planning and Development Services Center, 201-B East Pecan Street, Pflugerville, TX 78691. | Sep. 27, 2021 | 481028
Travis (FEMA Docket No.: B-2159) | Unincorporated areas of Travis County (21-06-0300P). | The Honorable Andy Brown, Travis County Judge, P.O. Box 1748, Austin, TX 78767. | Travis County Transportation and Natural Resources Department, 700 Lavaca Street, 5th Floor, Austin, TX 78701. | Oct. 4, 2021 | 481026
Travis (FEMA Docket No.: B-2143) | Unincorporated areas of Travis County (21-06-0412P). | The Honorable Andy Brown, Travis County Judge, P.O. Box 1748, Austin, TX 78767. | Travis County Transportation and Natural Resources Department, 700 Lavaca Street, 5th Floor, Austin, TX 78701. | Sep. 27, 2021 | 481026
Utah: Salt Lake (FEMA Docket No.: B-2159) | City of South Jordan (20-08-0763P). | The Honorable Dawn R. Ramsey, Mayor, City of South Jordan, 1600 West Towne Center Drive, South Jordan, UT 84095. | Development Services Department, 1600 West Towne Center Drive, South Jordan, UT 84095. | Sep. 27, 2021 | 490107
Virginia:
Albemarle (FEMA Docket No.: B-2148) | Unincorporated areas of Albemarle County (21-03-0029P). | The Honorable Ned L. Gallaway, Chairman, Albemarle County Board of Supervisors, 401 McIntire Road, Charlottesville, VA 22902. | Albemarle County Community Development Department, 401 McIntire Road, Charlottesville, VA 22902. | Sep. 27, 2021 | 510006
King and Queen (FEMA Docket No.: B-2143) | Unincorporated areas of King and Queen County (21-03-0727P). | Mr. Thomas J. Swartzwelder, Administrator, King and Queen County, P.O. Box 177, King and Queen C.H., VA 23085. | King and Queen County Administrator's Office, 242 Allens Circle, Suite L, King and Queen C.H., VA 23085. | Sep. 23, 2021 | 510082

[FR Doc. 2021-23749 Filed 10-29-21; 8:45 am]

BILLING CODE 9110-12-P